INTERNATIONAL TRADE COMMISSION

[Investigation No. 337-TA-796]

Certain Electronic Digital Media Devices and Components Thereof: Commission Determination To Review a Final Initial Determination Finding a Violation of Section 337; Remand-in-Part of the Investigation to the Administrative Law Judge

AGENCY: U.S. International Trade Commission.

ACTION: Notice.

SUMMARY: Notice is hereby given that the U.S. International Trade Commission has determined to review in its entirety the final initial determination (“ID”) issued by the presiding administrative law judge (“ALJ”) on October 24, 2012, finding a violation of section 337 of the Tariff Act of 1930, as amended, 19 U.S.C. 1337, in this investigation. The Commission has also determined to remand-in-part the investigation to the ALJ.

FOR FURTHER INFORMATION CONTACT: Cathy Chen, Esq., Office of the General Counsel, U.S. International Trade Commission, 500 E Street SW., Washington, DC 20436, telephone (202) 205-2392. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 5, 2011, based on a complaint filed by Apple Inc. (“Apple”) of Cupertino, California. 76 FR 47610 (Aug. 5, 2011). The complaint alleges violations of section 337 of the Tariff Act of 1930, as amended, 19 U.S.C. 1337, in the importation into the United States, the sale for importation, and the sale within the United States after importation of certain electronic digital media devices and components thereof by reason of infringement of certain claims of U.S. Patent Nos. 7,479,949 (“the '949 patent”); RE 41,922 (“the '922 patent”); 7,863,533 (“the '533 patent”); 7,789,697 (“the '697 patent”); 7,912,501 (“the '501 patent”); D558,757 (“the D'757 patent”); and D618,678 (“the D'678 patent”) (collectively, “the Asserted Patents”). The complaint further alleges the existence of a domestic industry. The respondents named in the Commission's notice of investigation are Samsung Electronics Co, Ltd. of Korea; Samsung Electronics America, Inc. of Ridgefield Park, New Jersey; and Samsung Telecommunications America, LLC of Richardson, Texas (collectively, “Samsung”). A Commission investigative attorney (“IA”) participated in the investigation.

On May 3, 2012, the ALJ issued an ID partially terminating the investigation with respect to all claims of the '533 patent; claims 1-3, 11, 12, 15, 16 and 21-27 of the '697 patent; and claim 3 of the '949 patent (Order No. 17) (not reviewed by the Commission, May 3, 2012).

On October 24, 2012, the ALJ issued his final ID in this investigation finding a violation of section 337 in connection with the claim of the D'678 patent; claims 1, 4-6 and 10-20 of the '949 patent; claims 29, 30 and 33-35 of the '922 patent; and claims 1-4 and 8 of the '501 patent. The ALJ found no violation of section 337 in connection with the claim of the D'757 patent; claims 31 and 32 of the '922 patent; and claims 13 and 14 of the '697 patent. The ALJ also found that the asserted claims of the Asserted Patents were not shown to be invalid. The ALJ further found that a domestic industry in the United States exists that practices the Asserted Patents, except for the '697 patent. On November 7, 2012, the ALJ issued his recommended determination on remedy and bonding.

Apple and Samsung filed timely petitions for review of various portions of the final ID, as well as timely responses to the petitions. The IA filed only a response to the petitions for review. On December 3, 2012, Apple and Samsung filed public interest comments pursuant to Commission rule 210.50(a)(4). That same day, non-party Google filed submissions in response to the Notice of Request for Statements on the Public Interest. See 77 FR 68829-30 (Nov. 16, 2012).

Having examined the record of this investigation, including the ALJ's final ID, the petitions for review, and the responses thereto, the Commission has determined to review the final ID in its entirety. The Commission does not seek further briefing at this time. Rather, the Commission remands the investigation to the ALJ with respect to certain issues related to the '922 patent and the '501 patent, as set forth in the accompanying Remand Order.

In light of the remand, the ALJ shall set a new target date within thirty days of this notice consistent with the Remand Order. The current target date for this investigation is March 27, 2013.

Briefing, if any, on remanded and reviewed issues, and on remedy, bonding, and the public interest will follow Commission consideration of the remand ID.

The authority for the Commission's determination is contained in section 337 of the Tariff Act of 1930, as amended (19 U.S.C. 1337), and in sections 210.42-46 of the Commission's Rules of Practice and Procedure (19 CFR 210.42-46).

By order of the Commission.
Issued: January 23, 2013.
Lisa R. Barton,
Acting Secretary to the Commission.

[FR Doc. 2013-01771 Filed 1-28-13; 8:45 am]

BILLING CODE 7020-02-P